NUCLEAR REGULATORY COMMISSION

Request for a License To Export; Reactor Components

Pursuant to 10 CFR 110.70 (b) “Public Notice of Receipt of an Application,” please take notice that the Nuclear Regulatory Commission (NRC) has received the following request for an export license. Copies of the request are available electronically through ADAMS and can be accessed through the Public Electronic Reading Room (PERR) link http://www.nrc.gov/reading-rm.html at the NRC Homepage.

A request for a hearing or petition for leave to intervene may be filed within thirty days after publication of this notice in the Federal Register. Any request for hearing or petition for leave to intervene shall be served by the requestor or petitioner upon the applicant, the Office of the General Counsel, U.S. Nuclear Regulatory Commission, Washington, DC 20555; the Office of the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 Fed. Reg 49139 (Aug. 28, 2007). Information about filing electronically is available on the NRC's public Web site at http://www.rnc.gov/site-help/e-submittals.html. To ensure timely electronic filing, at least 5 (five) days prior to the filing deadline, the petitioner/requestor should contact the Office of the Secretary by email at HEARINGDOCKET@NRC.GOV, or by calling (301) 415-1677, to request a digital ID certificate and allow for the creation of an electronic docket.

In addition to a request for hearing or petition for leave to intervene, written comments, in accordance with 10 CFR 110.81, should be submitted within thirty (30) days after publication of this notice in the Federal Register to Office of the Secretary, U.S. Nuclear Regulatory Commission, Washington, DC 20555, Attention: Rulemaking and Adjudications.

The information concerning this export license application follows.

NRC Export License Application
[Desription of material]
Name of applicant Date of application Date received Application No. Docket No. | Material type | Total quantity | End use | Recipient country
Curtiss-Wright Electro-Mechanical Corporation, August 28, 2013, August 29, 2013, XR177, 11006121 | Complete primary coolant pump systems, related equipment, and spare parts | Enough for eight AP-1000 (design) reactors | Construction, maintenance, and operation of AP-1000 (design) nuclear reactors | China.

Dated this 16th day of September 2013 in Rockville, Maryland.
For The Nuclear Regulatory Commission.
Mark R. Shaffer,
Deputy Director, Office of International Programs.

[FR Doc. 2013-22951 Filed 9-19-13; 8:45 am]

BILLING CODE 7590-01-P